DEPARTMENT OF TRANSPORTATION

Federal Aviation Administration

14 CFR Part 39

[Docket No. 2002-NE-20-AD; Amendment 39-13077; AD 2003-05-01]

RIN 2120-AA64

Airworthiness Directives; Wytwornia Sprzetu Komunikacyjnego (WSK) PZL-Rzeszow S.A. Franklin 6A-350-C1, -C1A, -C1L, -C1R -C2, -C2A, and 4A-235 Series Reciprocating Engines

AGENCY: Federal Aviation Administration, DOT.

ACTION: Final rule, request for comments.

SUMMARY: This amendment supersedes an emergency airworthiness directive (AD) that was sent previously to all known U.S. owners and operators of WSK PZL-Rzeszow S.A. Franklin 6A-350-C1, -C1A, -C1L, -C2, -C2A, and 4A-235 series reciprocating engines. This action requires removing diaphragm type AC4886 fuel pump, AC part number (P/N) 5656774, PZL P/N 26.11.1710, before further flight, and prohibits installing diaphragm type AC4886 fuel pump, AC P/N 5656774, PZL P/N 26.11.1710. This amendment is prompted by several reports of failures of the valves and diaphragms in certain diaphragm type AC4886 fuel pumps, AC P/N 5656774, PZL P/N 26.11.1710, and adds the 6A-350-C1R engine to the applicability. The actions specified by this AD are intended to prevent reduction or loss of engine power or external fuel leaks.

DATES: Effective March 21, 2003.

Comments for inclusion in the Rules Docket must be received on or before May 5, 2003.

ADDRESSES: Submit comments in triplicate to the Federal Aviation Administration (FAA), New England Region, Office of the Regional Counsel, Attention: Rules Docket No. 2002-NE-20-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

FOR FURTHER INFORMATION CONTACT: Richard Woldan, Aerospace Engineer, Engine Certification Office, FAA, Engine and Propeller Directorate, 12 New England Executive Park; Burlington, MA 01803-5299; telephone (781) 238-7136; fax (781) 238-7199.

SUPPLEMENTARY INFORMATION: On August 27, 2002, the Federal Aviation Administration (FAA) issued Emergency airworthiness directive (AD) 2002-18-51, that applies to WSK PZL-Rzeszow S.A. Franklin 6A-350-C1, -C1A, -C1L, -C2, -C2A, and 4A-235 series reciprocating engines. That AD requires before further flight, removing type AC4886 fuel pump, AC P/N 5656774, PZL P/N 26.11.1710, and prohibits installation of diaphragm type AC4886 fuel pump, AC P/N 5656774, PZL P/N 26.11.1710 fuel pump after receipt of that AD. That action was prompted by several reports of pump failure. This condition, if not corrected, could result in reduction or loss of engine power or external fuel leaks.

Since AD 2002-18-51 was issued, the FAA has determined that the 6A-350-C1R engine was inadvertently omitted from the applicability of that AD.

FAA's Determination of an Unsafe Condition and Required Actions

Since the unsafe condition described is likely to exist or develop on other engines of the same type design, the FAA issued emergency AD 2002-18-51 to prevent reduction or loss of engine power or external fuel leaks. This AD requires before further flight, removing diaphragm type AC4886 fuel pumps, AC P/N 5656774, PZL P/N 26.11.1710, and prohibits installation of diaphragm type AC4886 fuel pumps, AC P/N 5656774, PZL P/N 26.11.1710, fuel pump after the effective date of this AD.

Immediate Adoption of This AD

Since it was found that immediate corrective action was required, notice and opportunity for prior public comment thereon were impracticable and contrary to the public interest, and good cause existed to make the AD effective immediately on August 27, 2002, to all known U.S. owners and operators of WSK PZL-Rzeszow S.A. Franklin 6A-350-C1, -C1A, -C1L, -C2, -C2A, and 4A-235 series reciprocating engines. These conditions still exist, and the AD is hereby published in the Federal Register as an amendment to section 39.13 of part 39 of the Federal Aviation Regulations (14 CFR part 39) to make it effective to all persons.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket Number 2002-NE-20-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-05-01 Wytwornia Sprzetu Komunikacyjnego PZL-Rzeszow: Amendment 39-13077. Docket No. 2002-NE-20-AD. Supersedes AD 2002-18-51.

Applicability: This airworthiness directive (AD) is applicable to Wytwornia Sprzetu Komunikacyjnego (WSK) PZL-Rzeszow S.A. Franklin 6A-350-C1, -C1A, -C1L, -C1R, -C2, -C2A, and 4A-235 series reciprocating engines with diaphragm type AC4886 fuel pump, AC part number (P/N) 5656774, PZL P/N 26.11.1710, installed. These engines are used on, but not limited to AERMACCHI S.p.A. S.205-22/R, Cessna 170, 172, and 175 series, Maule Aerospace Technologies, Inc. M-4-220, -220C, -220S, -220T, and M-5-220C, S.O.C.A.T.A.—Groupe AEROSPATIALE Model MS 894E, Swift Museum Foundation Model GC-1B, and Univair Aircraft Corp. (Stinson) 108 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required before further flight, unless already done.

To prevent reduction or loss of engine power or external fuel leaks, do the following:

(a) Before further flight, remove diaphragm type AC4886 fuel pump, AC P/N 5656774, PZL P/N 26.11.1710. Type AC4886 pumps might have a metal tag with 4886 attached to a bolt on the upper cover. PZL-Rzeszow has issued Service Bulletin No. PZL-F/71/2002, dated August 2002 on this subject.

(b) After receipt of this AD, do not install diaphragm type AC4886 fuel pump, AC P/N 5656774, PZL P/N 26.11.1710.

Alternative Methods of Compliance

(c) An alternative method of compliance or adjustment of the compliance time that provides an acceptable level of safety may be used if approved by the Manager, Engine Certification Office (ECO). Operators must submit their requests through an appropriate FAA Maintenance Inspector, who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the airplane to a location where the requirements of this AD can be done.

Effective Date

(e) This amendment becomes effective March 21, 2003.

Issued in Burlington, Massachusetts, on February 27, 2003.
Francis A. Favara,
Acting Manager, Engine and Propeller Directorate, , Aircraft Certification Service.

[FR Doc. 03-5246 Filed 3-5-03; 8:45 am]

BILLING CODE 4910-13-P